DEPARTMENT OF HEALTH AND HUMAN SERVICES

Centers for Disease Control and Prevention

[Program Announcement 04267]

Assessment of Youth Interventions in Asembo and Gem, Nyanza Province, Kenya; Notice of Intent To Fund Single Eligibility Award

A. Purpose

The Centers for Disease Control and Prevention (CDC) announces the intent to fund fiscal year (FY) 2004 funds for a cooperative agreement program to provide a model program for pilot youth interventions in Asembo and Gem, Nyanza Province, Kenya, and for assessment of the impact of these interventions.

The Catalog of Federal Domestic Assistance number for this program is 93.941.

B. Eligible Applicant

Assistance will be provided only to the Institute of Tropical Medicine (ITM), Antwerp, Belgium.

The ITM has a long history of research and effective interventions, in rural Africa, in the areas of HIV/AIDS and other STD. ITM was the first organization to document the extremely high rates of HIV infection in young people in Nyanza province. As a result of this study, ITM established a pilot intervention program, in Asembo, in 2002 to assess in more detail the risk factors in young people, to develop pilot interventions to reduce this risk, and to study the impact of these interventions. ITM is already established in Asembo and enjoys the respect and support of the local community, and studies are currently underway to assess the Parents Matter curriculum. There is no other organization in Asembo and Gem, somewhat remote areas, with the capacity to implement this complex program.

C. Funding

Approximately $2,000,000 is available in FY 2004 to fund this award. It is expected that the award will begin on or before September 1, 2004 and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Elizabeth Marum, PhD., Project Officer, Global Aids Program [GAP], Kenya Country Team, National Center for HIV, STD and TB Prevention, Centers for Disease Control and Prevention [CDC], PO Box 606 Village Market, Nairobi, Kenya, Telephone: 256-20-271-3008, E-mail: emarum@cdcnairobi.mimcom.net.

Dated: July 16, 2004.
William P. Nichols, MPA,
Acting Director, Procurement and Grants Office, Centers for Disease Control and Prevention.

[FR Doc. 04-16808 Filed 7-22-04; 8:45 am]

BILLING CODE 4163-18-P